DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Pacific Islands Region Coral Reef Ecosystems Logbook and Reporting.

OMB Control Number: 0648-0462.

Form Number(s): None.

Type of Request: Regular (extension of a currently approved information collection).

Number of Respondents: 5.

Average Hours per Response: Pre-trip and pre-landing notifications, 3 minutes; logbook reports, 30 minutes; transshipment reports, 15 minutes.

Burden Hours: 18.

Needs and Uses: This request is for extension of a current information collection.

The National Marine Fisheries Service (NMFS) requires any U.S. citizen issued a Special Coral Reef Ecosystem Fishing Permit to complete logbooks and submit them to NMFS (50 CFR 665). The Special Coral Reef Ecosystem Fishing Permit is authorized under the Fishery Ecosystem Plans for American Samoa Archipelago, Hawaiian Archipelago, Mariana Archipelago, and Pacific Remote Island Areas. The information in the logbooks is used to obtain fish catch/fishing effort data on coral reef fishes and invertebrates harvested in designated low-use marine protected areas and on those listed in the regulations as potentially-harvested coral reef taxa in waters of the U.S. exclusive economic zone in the western Pacific region. These data are needed to determine the condition of the stocks, whether the current management measures are having the intended effects, and to evaluate the benefits and costs of changes in management measures. The logbook information includes interactions with protected species, including sea turtles, monk seals, and other marine mammals, which are used to monitor and respond to incidental takes of endangered and threatened marine species.

Affected Public: Business or other for-profit organizations; individuals or households.

Frequency: On occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: October 25, 2018.
Sarah Brabson,
NOAA PRA Clearance Officer.

[FR Doc. 2018-23640 Filed 10-29-18; 8:45 am]

BILLING CODE 3510-22-P